DEPARTMENT OF COMMERCE

Foreign-Trade Zones Board

[B-46-2023]

Foreign-Trade Zone (FTZ) 168, Notification of Proposed Production Activity; Samsung Electronics America, Inc.; (Stylus for Mobile Phones and Tablets); Coppell, Texas

The Metroplex International Trade Development Corporation, grantee of FTZ 168, submitted a notification of proposed production activity to the FTZ Board (the Board) on behalf of Samsung Electronics America, Inc., located in Coppell, Texas within Subzone 168D. The notification conforming to the requirements of the Board's regulations (15 CFR 400.22) was received on July 19, 2023.

Pursuant to 15 CFR 400.14(b), FTZ production activity would be limited to the specific foreign-status material/component described in the submitted notification (summarized below) and subsequently authorized by the Board. The benefits that may stem from conducting production activity under FTZ procedures are explained in the background section of the Board's website—accessible via www.trade.gov/ftz. The proposed material/component would be added to the production authority that the Board previously approved for the operation, as reflected on the Board's website.

The proposed foreign-status material/component is stylus pens (duty rate is duty-free).

Public comment is invited from interested parties. Submissions shall be addressed to the Board's Executive Secretary and sent to: ftz@trade.gov. The closing period for their receipt is September 5, 2023.

A copy of the notification will be available for public inspection in the “Online FTZ Information System” section of the Board's website.

For further information, contact Juanita Chen juanita.chen@trade.gov.

Dated: July 19, 2023.
Elizabeth Whiteman,
Executive Secretary.

[FR Doc. 2023-15659 Filed 7-24-23; 8:45 am]

BILLING CODE 3510-DS-P